DEPARTMENT OF TRANSPORTATION

National Highway Traffic Safety Administration

23 CFR Part 1300

RIN 2127-AM81

Technical Amendment to the Uniform Procedures for State Highway Safety Grant Programs

AGENCY: National Highway Traffic Safety Administration (NHTSA), U.S. Department of Transportation (DOT).

ACTION: Final rule.

SUMMARY: This final rule makes technical amendments to the Uniform Procedures for State Highway Safety Grant Programs to remove references to rescinded Executive Orders.

DATES: This final rule is effective on July 15, 2025.

ADDRESSES: This document may be viewed online through the Federal eRulemaking portal at www.regulations.gov using the RIN number listed above. Electronic retrieval help and guidelines are available on the website. An electronic copy of this document may be downloaded by accessing the Office of the Federal Register's website at: www.federalregister.gov and the U.S. Government Publishing Office's website at: www.GovInfo.gov.

FOR FURTHER INFORMATION CONTACT:

Program issues: Barbara Sauers, Associate Administrator, Regional Operations and Program Delivery, National Highway Traffic Safety Administration; Email: barbara.sauers@dot.gov; Phone: (202) 366-1810.

Legal issues: Megan Brown, Attorney-Advisor, Office of the Chief Counsel, National Highway Traffic Safety Administration, 1200 New Jersey Avenue SE, Washington, DC 20590; Email: megan.brown@dot.gov.

SUPPLEMENTARY INFORMATION:

Table of Contents

I. Background

II. Technical Amendments

III. Waiver of Notice and Comment

IV. Regulatory Analyses and Notices

I. Background

On February 6, 2023, NHTSA published in the Federal Register a final rule titled Uniform Procedures for State Highway Safety Grant Programs. 88 FR 7780 (Feb. 6, 2023).¹ NHTSA promulgated this final rule in accordance with the Infrastructure Investment and Jobs Act (IIJA), signed into law on November 15, 2021 (Pub. L. 117-58, § 24102 and 24105).

¹ Codified, with amendments, at 23 CFR part 1300.

In recent months, several prior Executive Orders have been rescinded. As a result of these rescissions, the following Executive Orders, among others, are no longer in effect: Executive Order 12898 (Federal Actions to Address Environmental Justice in Minority Populations and Low-Income Populations), Executive Order 13166 (Improving Access to Services for Persons with Limited English Proficiency), Executive Order 13985 (Advancing Racial Equity and Support for Underserved Communities Through the Federal Government), and Executive Order 13988 (Preventing and Combating Discrimination on the Basis of Gender Identity or Sexual Orientation).

As a condition for receiving formula grant funding under Section 402, State offices of highway safety must sign a certification and assurances document that includes provisions covering many required areas such as Drug-Free Workplace, as well as Hatch Act and State Lobbying restrictions. This document also includes a section on nondiscrimination that references the four rescinded Executive Orders (EOs) identified in the previous paragraph.

In addition, NHTSA's highway safety grant rule provides regulatory definitions of certain terms used in statute. Relevant to this final rule, 23 U.S.C. 405(b)(4)(A)(v) allows States to use Section 405 occupant protection grant funds to implement programs related to child passenger safety for low-income and underserved populations. NHTSA derived the definition for “underserved populations” in part from the now-rescinded Executive Order 13985.² During that rulemaking process, NHTSA received two comments related to the definition for “underserved populations.

² See 87 FR 56756, 56762 (Sept. 15, 2022).

II. Technical Amendments

In this rule, NHTSA makes technical amendments to remove the references to the now rescinded Executive Orders from the certifications and assurances in Appendix A of NHTSA's Uniform Procedures for State Highway Safety Grant Programs.

In addition, NHTSA removes the definition for “low-income and underserved populations” in 23 CFR 1300.21(b). NHTSA also removes the definition for “underserved populations” in 23 CFR 1300.3; the inclusion of this definition, which is duplicative of the more specific definition in 23 CFR 1300.21(b), was a drafting error. With the removal of those definitions, States are not required to change how they identify underserved populations, and will continue to have flexibility to identify the underserved populations within their jurisdiction based on their own data and problem identification.

This rule will become effective on July 15, 2025 and will apply to State highway safety grants awarded beginning in fiscal year 2026.

III. Waiver of Notice and Comment

NHTSA concludes that it has good cause to issue without notice and comment this technical amendment under 5 U.S.C. 553(b)(B). 5 U.S.C. 553(b)(B) provides that when an agency, for good cause, finds that notice and public comment are impractical, unnecessary, or contrary to the public interest, the agency may issue a final rule without providing notice and an opportunity for public comment.

NHTSA makes this technical amendment consistent with the rescission of Executive Order 12898 (Federal Actions to Address Environmental Justice in Minority Populations and Low-Income Populations), Executive Order 13166 (Improving Access to Services for Persons with Limited English Proficiency), Executive Order 13985 (Advancing Racial Equity and Support for Underserved Communities Through the Federal Government), and Executive Order 13988 (Preventing and Combating Discrimination on the Basis of Gender Identity or Sexual Orientation). NHTSA has no discretion to continue to require certification of compliance with these rescinded Executive Orders. By issuing this technical amendment, NHTSA establishes consistency with the status of these Executive Orders. In addition, NHTSA removes two definitions of “underserved population” because the definitions were derived in part from rescinded Executive Order 13985. Removal of these definitions does not require changes to States' current identification of these populations, but as stated elsewhere in the preamble, will enable States to identify the underserved populations within their jurisdiction based on their own data and problem identification. For these reasons, NHTSA has determined that providing prior notice and an opportunity for public comment is unnecessary and contrary to the public interest.

III. Regulatory Analyses and Notices

A. Executive Order (E.O.) 12866 (Regulatory Planning and Review)

NHTSA has considered the impact of this rulemaking action under E.O. 12866.³ This rulemaking does not meet the criteria of a “significant regulatory action” under the Executive Order. Therefore, the Office of Management and Budget (OMB) has not reviewed this rule under that E.O.

³ Regulatory Planning and Review, 58 FR 51735 (Oct. 4, 1993).

B. Executive Order (E.O.) 14192 (Unleashing Prosperity Through Deregulation)

This rulemaking is an E.O. 14192 ⁴ deregulatory action and will have a de minimis reduction in State administrative burden. The updated legal citations in the required certifications and assurances document should incrementally lessen State legal review efforts. Removal of the definitions relating to underserved populations will streamline State identification of those populations by allowing States to use the definition that best meet their specific data and problem identification.

⁴ Unleashing Prosperity through Deregulation, 90 FR 9065 (Feb. 6, 2025).

C. Regulatory Flexibility Act

The Regulatory Flexibility Act (RFA) of 1980 (5 U.S.C. 601 et seq.) requires agencies to evaluate the potential effects of their proposed and final rules on small businesses, small organizations, and small governmental jurisdictions. Whenever an agency is required by 5 U.S.C. 553, or any other law, to publish general notice of proposed rulemaking for any proposed rule, the agency must conduct and publish for public comment a regulatory flexibility analysis. Because NHTSA is not required to publish a proposed rulemaking for this action, an analysis under the RFA is not required.

NHTSA notes, however, that this action makes a limited revision to the uniform procedures implementing State highway safety grant programs, which were determined previously not to have a significant impact on a substantial number of small entities. The grant programs impacted by this rule will affect State governments, which are not considered to be small entities as that term is defined by the RFA.

D. Executive Order 13132 (Federalism)

Executive Order 13132 on “Federalism” requires NHTSA to develop an accountable process to ensure “meaningful and timely input by State and local officials in the development of regulatory policies that have federalism implications.” 64 FR 43255 (August 10, 1999). “Policies that have federalism implications” are defined in the Executive Order to include regulations that have “substantial direct effects on the States, on the relationship between the national government and the States, or on the distribution of power and responsibilities among the various levels of government.” Under Executive Order 13132, an agency may not issue a regulation with federalism implications that imposes substantial direct compliance costs not required by statute unless the Federal government provides the funds necessary to pay the direct compliance costs incurred by State and local governments or the agency consults with the State and local government in the process of developing the proposed regulation. An agency also may not issue a regulation with Federalism implications that preempts a State law without consulting with State and local officials.

NHTSA analyzed this rulemaking action in accordance with the principles and criteria set forth in Executive Order 13132. The limited revisions made in this rulemaking do not increase administrative burden for State recipients. Therefore, NHTSA determines that this technical amendment would not have sufficient federalism implications as defined in the Order to warrant formal consultation with State and local officials or preparation of a federalism summary impact statement.

E. Executive Order 12988 (Civil Justice Reform)

Pursuant to Executive Order 12988 (61 FR 4729 (February 7, 1996)), “Civil Justice Reform,” the agency has considered whether this rule would have any retroactive effect. The rule would not have any retroactive or preemptive effect, and judicial review may be obtained pursuant to 5 U.S.C. 702. That section does not require that a petition for reconsideration be filed prior to seeking judicial review. This action meets applicable standards in sections 3(a) and 3(b)(2) of Executive Order 12988, Civil Justice Reform, to minimize litigation, eliminate ambiguity, and reduce burden.

F. Paperwork Reduction Act

In accordance with the Paperwork Reduction Act of 1995 (44 U.S.C. 3501-3520), an agency may not conduct or sponsor, and a person is not required to respond to, a collection of information, unless the collection displays a currently valid Office of Management and Budget (OMB) control number. The OMB Control Number for this information collection is 2127-0760. While this action may result in de minimis reduction to State administrative burden, NHTSA does not project that this action will generate appreciable savings.

G. Unfunded Mandates Reform Act

The Unfunded Mandates Reform Act (UMRA) of 1995 (Pub. L. 104-4) requires agencies to prepare a written assessment of the costs, benefits, and other effects of proposed or final rules that include a Federal mandate likely to result in expenditures by State, local, or tribal governments, in the aggregate, or by the private sector, of more than $100 million annually (adjusted annually for inflation with the base year of 1995). This rulemaking would not result in annual State expenditures exceeding the minimum threshold. Further, this rulemaking action updates government-wide legal conditions for NHTSA's State highway safety grant program, a voluntary program, and States that choose to apply and qualify would receive grant funds.

H. National Environmental Policy Act

NHTSA has analyzed this rule for the purposes of the National Environmental Policy Act of 1969 (NEPA). In accordance with 42 U.S.C. 4336 and DOT NEPA Order 5610.1D, NHTSA has determined that this rule is categorically excluded pursuant to 23 CFR 771.118(c)(4), “Planning and administrative activities not involving or leading directly to construction, such as: Training, technical assistance and research; promulgation of rules, regulations, directives, or program guidance; approval of project concepts; engineering; and operating assistance to transit authorities to continue existing service or increase service to meet routine demand.” This rulemaking is not anticipated to result in any environmental impacts, and there are no unusual or extraordinary circumstances present in connection with this rulemaking.

I. Executive Order 13175 (Consultation and Coordination With Indian Tribes)

Executive Order 13175 (65 FR 67249, Nov. 9, 2000) requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. NHTSA has assessed the impact of this rule on Indian tribes and determined that this action would not have tribal implications that require consultation under Executive Order 13175.

J. Congressional Review Act

The Congressional Review Act, 5 U.S.C. 801 et seq., as added by the Small Business Regulatory Enforcement Fairness Act of 1996, generally provides that before a rule may take effect, the agency promulgating the rule must submit a rule report, which includes a copy of the rule to each House of the Congress and to the Comptroller General of the United States. NHTSA will submit a report containing this rule and other required information to the U.S. Senate, the U.S. House of Representatives, and the Comptroller General of the United States prior to publication of this rule in the Federal Register. Because this rule does not meet the criteria in 5 U.S.C. 804(2) for a major rule, it will be effective upon publication in the Federal Register.

K. Regulation Identifier Number (RIN)

The Department of Transportation assigns a regulation identifier number (RIN) to each regulatory action listed in the Unified Agenda of Federal Regulations. The Regulatory Information Service Center publishes the Unified Agenda twice each year. You may use the RIN contained in the heading at the beginning of this document to find this action in the Unified Agenda.

L. Privacy Act

Please note that anyone is able to search the electronic form of all comments received into any of our dockets by the name of the individual submitting the comment (or signing the comment, if submitted on behalf of an association, business, labor union, etc.). For information on DOT's compliance with the Privacy Act, please visit https://www.transportation.gov/privacy.

List of Subjects in 23 CFR Part 1300

Administrative practice and procedure, Alcohol abuse, Drug abuse, Grant programs—transportation, Highway safety, Intergovernmental relations, Motor vehicles—motorcycles, Reporting and recordkeeping requirements.

For the reasons stated in the preamble, under the authority of 23 U.S.C. 401 et seq., the National Highway Traffic Safety Administration amends 23 CFR part 1300 as follows:

PART 1300—UNIFORM PROCEDURES FOR STATE HIGHWAY SAFETY GRANT PROGRAMS

1. The authority citation for part 1300 continues to read as follows:

Authority: 23 U.S.C. 402; 23 U.S.C. 405; Sec. 1906, Pub. L. 109-59, 119 Stat. 1468, as amended by Sec. 25024, Pub. L. 117-58, 135 Stat. 879; delegation of authority at 49 CFR 1.95.

Subpart A—General

§ 1300.3 [Amended]

2. Amend § 1300.3 by removing the definition of “Underserved populations”.

Subpart C—National Priority Safety Program and Racial Profiling Data Collection Grants

§ 1300.21 [Amended]

3. Amend § 1300.21(b) by removing the definition of “Low-income and underserved populations”.

Appendix A to Part 1300—[Amended]

4. Amend appendix A to part 1300 under the undesignated heading “Nondiscrimination (Applies to Subrecipients as Well as States)” by removing the entries for “Executive Order 12898, Federal Actions to Address Environmental Justice in Minority Populations and Low-Income Populations”, “Executive Order 13166, Improving Access to Services for Persons with Limited English Proficiency”, “Executive Order 13985, Advancing Racial Equity and Support for Underserved Communities through the Federal Government”, and “Executive Order 13988, Preventing and Combating Discrimination on the Basis of Gender Identity or Sexual Orientation”.

Issued in Washington, DC, under authority delegated in 49 CFR 1.81 and 1.95 and 49 CFR 501.4 and 501.5.
Peter Simshauser,
Chief Counsel.

[FR Doc. 2025-13244 Filed 7-14-25; 8:45 am]

BILLING CODE 4910-59-P